DEPARTMENT OF TRANSPORTATION

Federal Aviation Administration

Notice of Intent To Request Renewal From the Office of Management and Budget (OMB) of Two Current Public Collections of Information

AGENCY: Federal Aviation Administration (FAA), DOT.

ACTION: Notice.

SUMMARY: In compliance with the Paperwork Reduction Act (44 U.S.C. 3501 et seq.), the FAA invites public comment on two currently approved public information collections which will be submitted to OMB for renewal.

DATES: Comments must be received on or before October 15, 2002.

ADDRESSES: Comments may be mailed or delivered to the FAA at the following address. Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collections, the accuracy of the agency's estimate of the burden, the quality, utility, and clarity of the information to be collected, and possible ways to minimize the burden of the collection in preparation for submission to renew the clearances of the following information collections.

1. 2120-0543, Pilots Convicted of Alcohol or Drug-Related Vehicle Offenses or Subject to State Motor Vehicle Administration Procedures. The information requested from airmen is needed to mitigate potential hazards presented by airmen using alcohol or drugs in flight; it is used to identify persons possibly unsuitable for pilot certification; and it affects those pilots who have been or will be convicted of a drug or alcohol-related traffic violation. The current estimated annual reporting burden is 370 hours.

2. 2120-0653, Commercial Air Tour Limitation in the Grand Canyon National Park Special Flight Rules Area. The National Parks Overflights Act mandates that the recommendations provide for “substantial restoration of the natural quiet and experience of the park and protection of public health and safety from adverse effects associated with aircraft overflight.” The FAA will use the information to monitor compliance with the regulations. The current estimated annual reporting burden is 466 hours.

Issued in Washington, DC, on August 8, 2002.
Judith D. Street,
FAA Information Collection Clearance Officer, APF-100.

[FR Doc. 02-20639 Filed 8-13-02; 8:45 am]

BILLING CODE 4910-13-M